FEDERAL MARITIME COMMISSION

[Docket No. 02-06]

Hudson Shipping (Hong Kong) Ltd. d/b/a Hudson Express Lines; Possible Violations of Section 10(a)(1) of the Shipping Act; of 1984; Notice of Investigation and Hearing

Notice is given that, on April 5, 2002, the Federal Maritime Commission (“Commission”) served an Order of Investigation and Hearing on Hudson Shipping (Hong Kong) Ltd. d/b/a Hudson Express Lines (“Hudson”).

Hudson holds itself out as a non-vessel-operating common carrier (“NVOCC”). It appears that Hudson obtained ocean transportation on behalf of other NVOCCs by permitting them to use its service contracts to transport their shipments at lower rates than should have been applicable.

This proceeding seeks to determine whether Hudson violated section 10(a)(1) of the 1984 Act and, in the event violations are found, whether penalties should be assessed and, if so, in what amount and whether a cease and desist order should be issued.

Any person having an interest in participating in this proceeding may file a petition for leave to intervene in accordance with Rule 72 of the Commission's rules of practice and procedure, 46 CFR 502.72.

Bryant L. VanBrakle,
Secretary.

[FR Doc. 02-9370 Filed 4-17-02; 8:45 am]

BILLING CODE 6730-01-M